DEPARTMENT OF HOUSING AND URBAN DEVELOPMENT

[Docket No. FR-5548-D-01]

Redelegation of Authority to the Office of Strategic Planning and Management

AGENCY: Office of the Chief Operating Officer, HUD.

ACTION: Notice of redelegation of authority.

SUMMARY: Through this notice, the Chief Operating Officer of HUD (COO) redelegates to the Director, Office of Strategic Planning and Management, authority and responsibility for the development and execution of the department's strategic plan.

DATES: Effective Date: June 22, 2011.

FOR FURTHER INFORMATION CONTACT: Nina M. Coward, Office of Strategic Planning and Management, Department of Housing and Urban Development, 451 7th Street, SW., Room 10156, Washington, DC 20410-6000, telephone number 202-402-3897. (This is not a toll-free number). Persons with hearing- or speech-impairments may access this number though TTY by calling the toll-free Federal Relay Service at 1-800-877-8339.

SUPPLEMENTARY INFORMATION:

Section A. Authority

The COO hereby redelegates to the Director, Office of Strategic Planning and Management, authority and responsibility for the development and execution of the department's strategic plan. In carrying out this responsibility, the Director, Office of Strategic Planning and Management, shall, among other duties:

1. Implement the Department's program performance measurement and management process.

2. Manage and support the execution of the Transformation Initiative, the Department's multiyear, multifaceted organizational change program.

3. Oversee the implementation of the economic stimulus funding allocated to the Department through the American Recovery and Reinvestment Act of 2009 (Pub. L. 111-5, approved February 17, 2009).

4. Advise the Secretary on matters related to management of the Department.

Section B. Authority to Redelegate

The Director, Office of Strategic Planning, is authorized to redelegate to employees of HUD any of the authority delegated under Section A above.

Section C. Authority Superseded

There are no previous redelegations of authority.

The Chief Operations Officer may revoke the authority authorized herein, in whole or part, at any time.

Authority: Section 7(d), Department of Housing and Urban Development Act (42 U.S.C. 3535(d)).

Dated: June 22, 2011.
Estelle B. Richman,
Chief Operating Officer.

[FR Doc. 2011-16649 Filed 6-30-11; 8:45 am]

BILLING CODE 4210-67-P